DEPARTMENT OF COMMERCE

National Oceanic and Atmospheric Administration

50 CFR Part 648

[Docket No. 210323-0063; RTID 0648-XA803]

Revisions to Framework Adjustment 59 to the Northeast Multispecies Fishery Management Plan and Sector Annual Catch Entitlements; Correction

AGENCY: National Marine Fisheries Service (NMFS), National Oceanic and Atmospheric Administration (NOAA), Commerce.

ACTION: Final rule; adjustment to specifications; correction.

SUMMARY: This final rule distributes sector allocation carried over from fishing year 2019 into fishing year 2020 and corrects minor errors published in the final rule approving and implementing Framework Adjustment 59 to the Northeast Multispecies Fishery Management Plan. This action is necessary to correct errors published in the final rule and to allocate carryover quota to sectors. The carryover adjustments are routine and formulaic, and industry expects them each year.

DATES: Effective March 25, 2021, through April 30, 2021.

FOR FURTHER INFORMATION CONTACT: Spencer Talmage, Fishery Management Specialist, (978) 281-9232.

SUPPLEMENTARY INFORMATION: On July 30, 2020, we published a final rule approving Framework Adjustment 59 to the Northeast Multispecies Fishery Management Plan (FMP) (85 FR 45794; July 30, 2020), which set 2020-2022 annual catch limits (ACL) for four groundfish stocks, and 2020 ACLs for three shared U.S./Canada stocks. That action became effective on July 28, 2020. This rule corrects minor errors published in the Framework Adjustment 59 final rule and distributes unused sector quota carried over from fishing year 2019.

Corrections to Framework Adjustment 59

Tables 12 through 14 published in the Framework Adjustment 59 final rule announced the Percent Sector Contribution (PSC) and initial Annual Catch Entitlements (ACE) allocated to individual sectors based on the approved catch limits for fishing year 2020. These tables erroneously labeled the values for the Maine Permit Bank (MPB) as if they were the values for the Mooncusser sector, and vice versa. These sectors have had their correct allocations for the duration of fishing year 2020; the typographical error in Framework 59 and this rule correcting it have no effect on the operations of these sectors in any way. The corrected information appears in tables 1 through 3 below.

Table 1—Corrected Fishing Year 2020 Percent Sector Contribution and Annual Catch Entitlement for the Maine Permit Bank and Mooncusser Sectors, Tables 12 Through 14 in Framework Adjustment 59
Sector name: MRI count | Maine Permit Bank: 11: Percent sector contribution | Maine Permit Bank: 11: ACE (in 1,000 lb) | Maine Permit Bank: 11: ACE (in metric tons) | Mooncusser: 40: Percent sector contribution | Mooncusser: 40: ACE (in 1,000 lb) | Mooncusser: 40: ACE (in metric tons)
GB Cod | 0.13361103 | 1 | 0 | 11.87404994 | 49 | 22
GB Cod East | N/A | 3 | 1 | N/A | 231 | 105
GOM Cod | 1.15503867 | 7 | 3 | 3.36592802 | 20 | 9
GB Haddock | 0.04432773 | 16 | 7 | 3.72602983 | 1,331 | 604
GB Haddock East | N/A | 103 | 47 | N/A | 8,680 | 3,937
GOM Haddock | 1.12455699 | 299 | 136 | 3.03406286 | 807 | 366
GB Yellowtail Flounder | 0.01377701 | 0 | 0 | 0.38302570 | 1 | 0
SNE/MA Yellowtail Flounder | 0.03180705 | 0 | 0 | 0.32527727 | 0 | 0
CC/GOM Yellowtail Flounder | 0.31794656 | 5 | 2 | 2.58549375 | 39 | 18
Plaice | 1.16407583 | 75 | 34 | 0.76474219 | 50 | 22
Witch Flounder | 0.72688452 | 21 | 10 | 1.71821481 | 50 | 23
GB Winter Flounder | 0.00021715 | 0 | 0 | 0.89399263 | 10 | 5
GOM Winter Flounder | 0.42662327 | 3 | 1 | 2.48392191 | 16 | 7
SNE/MA Winter Flounder | 0.01789120 | 0 | 0 | 2.26957436 | 27 | 12
Redfish | 0.82190532 | 204 | 92 | 2.65202110 | 657 | 298
White Hake | 1.65422882 | 74 | 33 | 5.80626985 | 258 | 117
Pollock | 1.69505501 | 896 | 407 | 5.44388052 | 2,879 | 1,306

Sector Carryover Allocations From Fishing Year 2019

Carryover regulations at 50 CFR 648.87(b)(1)(i)(C) allow each groundfish sector to carry over an amount of unused ACE equal to 10 percent of the sector's original ACE for each stock (except for Georges Bank (GB) yellowtail flounder) that is unused at the end of the fishing year into the following fishing year. However, we are authorized to adjust ACE carryover to ensure that the total unused ACE combined with the overall sub-ACL does not exceed the Acceptable Biological Catch (ABC) for the fishing year in which the carryover may be harvested. We have completed 2019 fishing year data reconciliation with sectors and determined final 2019 fishing year sector catch and the amount of allocation that sectors may carry over from the 2019 to the 2020 fishing year. A sector may carry over up to 10 percent of unused ACE for each stock, with a few exceptions. The amount of unused ACE may have been reduced so as not to exceed the ABC. Accordingly, unused ACE from fishing year 2019 available to carry over to 2020 was reduced for the following stocks: GB cod, Gulf of Maine (GOM) cod, Southern New England/Mid-Atlantic (SNE/MA) yellowtail flounder; Cape Cod/GOM yellowtail flounder; GB winter flounder; GOM winter flounder; SNE/MA winter flounder; redfish; white hake; and pollock. For GB haddock, GOM haddock, and American plaice, NMFS published an emergency action on December 31, 2020 (85 FR 86849) which authorized us to increase the maximum amount of carryover for those stocks above 10 percent of unused ACE from fishing year 2019 to an amount not to exceed the ABC. Complete details on carryover reduction percentages can be found at: https://www.greateratlantic.fisheries.noaa.gov/ro/fso/reports/h/groundfish_catch_accounting. Table 2 includes the maximum amount of allocation that sectors may carry over from the 2019 to the 2020 fishing year.

Table 3 includes the de minimis amount of carryover for each sector for the 2020 fishing year. If the overall ACL for any allocated stock is exceeded for the 2020 fishing year, the allowed carryover harvested by a sector, minus the pounds in the sector's de minimis amount, will be counted against its allocation to determine whether an overage subject to an accountability measure occurred. Tables 4 and 5 list the final ACE available to sectors for the 2020 fishing year, including finalized carryover amounts for each sector, as adjusted down when necessary to equal each stock's ABC.

Classification

The NMFS Assistant Administrator has determined that this rule is consistent with the Northeast Multispecies FMP, other provisions of the Magnuson-Stevens Fishery Conservation and Management Act, and other applicable laws.

This rule is exempt from the procedures of Executive Order 12866 because this action contains no implementing regulations.

Pursuant to 5 U.S.C. 553(b)(3)(B), we find good cause to waive prior public notice and opportunity for public comment on the minor corrections and allocation adjustments because allowing time for notice and comment is impracticable, unnecessary, and contrary to the public interest. We also find good cause to waive the 30-day delay in effectiveness pursuant to 5 U.S.C. 553(d)(1) and (3), so that this final rule may become effective in a timely manner and the fishery may maximize the economic benefits of the adjusted allocations to the fishery.

Notice and comment and a 30-day delay in effectiveness would be impracticable, unnecessary, and contrary to the public interest. The distribution of unused quota carried over from the previous fishing year is an annual adjustment action that is expected by industry. These adjustments increase available catch. They are routine, formulaic, and authorized by regulation. Delaying these adjustments would result in a delay in the distribution of unused carryover to sectors, and could negate or reduce the intended economic benefits and increased operational flexibility of the rule. We only recently finalized carryover for 2020 based on data available in the late fall and an emergency action which published on December 31, 2020 (85 FR 86849). The adjustments in this rule are necessary to correct minor errors made in the Framework Adjustment 59 final rule. Correcting these errors is not subject to our discretion, so there would be no benefit to allowing time for notice and comment. Immediate implementation corrects information published in Framework Adjustment 59 and provides industry with the most accurate information. Delaying these adjustments could cause confusion to industry. The need for these corrections was discovered only recently, so quicker action on our part was not possible.

Also, because advanced notice and the opportunity for public comment are not required for this action under the Administrative Procedure Act, or any other law, the analytical requirements of the Regulatory Flexibility Act, 5 U.SC. 601, et seq., do not apply to this rule.

This final rule contains no information collection requirements under the Paperwork Reduction Act of 1995.

Authority: 16 U.S.C. 1801 et seq.

Dated: March 23, 2021.
Samuel D. Rauch III,
Deputy Assistant Administrator for Regulatory Programs, National Marine Fisheries Service.

[FR Doc. 2021-06295 Filed 3-25-21; 8:45 am]

BILLING CODE 3510-22-P